DEPARTMENT OF ENERGY

Federal Energy Regulatory Commission

Combined Notice of Filings #4

Take notice that the Commission received the following electric corporate filings:

Docket Numbers: EC23-104-000.

Applicants: Tenaska High Point Holdings, LLC, High Point Solar LLC.

Description: Joint Application for Authorization Under Section 203 of the Federal Power Act of Tenaska High Point Holdings, LLC, et al.

Filed Date: 7/6/23.

Accession Number: 20230706-5147.

Comment Date: 5 p.m. ET 7/27/23.

Take notice that the Commission received the following Complaints and Compliance filings in EL Dockets:

Docket Numbers: EL23-81-000.

Applicants: Upstream Clean Energy v. California Independent System Operator Corporation.

Description: Complaint of Upstream Clean Energy v. California Independent System Operator Corporation.

Filed Date: 7/6/23.

Accession Number: 20230706-5145.

Comment Date: 5 p.m. ET 7/26/23.

Take notice that the Commission received the following electric rate filings:

Docket Numbers: ER10-1333-017; ER10-2566-014; ER13-2322-010; ER13-2387-011; ER15-190-022; ER18-1343-016; ER19-1819-006; ER19-1820-006; ER19-1821-006; ER21-2426-002.

Applicants: CPRE 1 Lessee, LLC, Speedway Solar NC, LLC, Stony Knoll Solar, LLC, Broad River Solar, LLC, Carolina Solar Power, LLC, Duke Energy Renewable Services, LLC, Duke Energy Florida, LLC, Duke Energy Progress, LLC, Duke Energy Carolinas, LLC, Duke Energy Commercial Enterprises, Inc.

Description: Triennial Market Power Analysis for Southeast Region of Duke Energy Commercial Enterprises, Inc., et al.

Filed Date: 6/30/23.

Accession Number: 20230630-5496.

Comment Date: 5 p.m. ET 8/29/23.

Docket Numbers: ER10-1616-019; ER10-1838-011; ER10-1967-012; ER10-1968-011; ER10-1990-011; ER10-1993-011; ER10-2783-020; ER10-2798-019; ER10-2799-019; ER10-2878-020; ER10-2879-019; ER10-2960-016; ER10-2969-020; ER18-1821-011; ER19-2231-008; ER19-2232-008; ER21-2423-007; ER21-2424-007; ER22-46-007; ER22-1402-004; ER22-1404-004; ER22-1449-003; ER22-1450-003; ER22-1662-003; ER22-2713-002; ER23-1299-001.

Applicants: OnPoint Energy Northeast, LLC, Parkway Generation Sewaren Urban Renewal Entity LLC, GB II New York LLC, GB II New Haven LLC, GB II Connecticut LLC, Parkway Generation Operating LLC, Parkway Generation Keys Energy Center LLC, Parkway Generation Essex, LLC, Generation Bridge M&M Holdings, LLC, Generation Bridge Connecticut Holdings, LLC, Chief Keystone Power II, LLC, Chief Conemaugh Power II, LLC, Walleye Power, LLC, Oswego Harbor Power LLC, Astoria Generating Company, L.P., Montville Power LLC, Middleton Power LLC, Devon Power LLC, Connecticut Jet Power LLC, Arthur Kill Power LLC, Waymart Wind Farm, LLC, Somerset Windpower, LLC, Mill Run Windpower, LLC, Meyersdale Windpower LLC, Backbone Mountain Windpower, LLC, New Covert Generating Company, LLC.

Description: Triennial Market Power Analysis for Northeast Region of New Covert Generating Company, LLC, et al.

Filed Date: 6/30/23.

Accession Number: 20230630-5495.

Comment Date: 5 p.m. ET 8/29/23.

Docket Numbers: ER10-2346-013; ER10-2353-013; ER11-4351-015; ER17-1217-003; ER19-1200-009; ER21-1923-003; ER21-1947-003; ER21-2128-002; ER21-2129-002; ER22-529-003.

Applicants: 299F2M WHAM8 SOLAR, LLC, 276FED WHAM8 SOLAR, LLC, 0HAM WHAM8 SOLAR, LLC, NedPower Mount Storm LLC, Black Rock Wind Force, LLC, Clearway Power Marketing LLC, TotalEnergies Gas & Power North America, Inc., Pinnacle Wind, LLC, Lookout WindPower LLC, Forward WindPower LLC.

Description: Triennial Market Power Analysis for Northeast Region of Forward WindPower LLC, et al.

Filed Date: 6/30/23.

Accession Number: 20230630-5494.

Comment Date: 5 p.m. ET 8/29/23.

Docket Numbers: ER22-2963-002.

Applicants: Yellowbud Solar, LLC.

Description: Triennial Market Power Analysis for Northeast Region of Yellowbud Solar, LLC.

Filed Date: 6/30/23.

Accession Number: 20230630-5493.

Comment Date: 5 p.m. ET 8/29/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 7, 2023.
Debbie-Anne A. Reese,
Deputy Secretary.

[FR Doc. 2023-14865 Filed 7-12-23; 8:45 am]

BILLING CODE 6717-01-P